ENVIRONMENTAL PROTECTION AGENCY

[EPA-HQ-OPP-2010-0988; FRL-9347-5]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Mike Mendelsohn, Biopesticides and Pollution Prevention Division (7511P), Office of Pesticide Programs, Environmental Protection Agency, 1200 Pennsylvania Ave. NW., Washington, DC 20460-0001; telephone number: (703) 308-8715; email address: mendelsohn.mike@epa.gov.

SUPPLEMENTARY INFORMATION:

I. General Information

A. Does this action apply to me?

This action is directed to the public in general. Although this action may be of particular interest to those persons who conduct or sponsor research on pesticides, the Agency has not attempted to describe all the specific entities that may be affected by this action. If you have any questions regarding the information in this action, consult the person listed under FOR FURTHER INFORMATION CONTACT.

B. How can I get copies of this document and other related information?

EPA has established a docket for this action under docket identification (ID) number EPA-HQ-OPP-2010-0988. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. EUP

EPA has issued the following EUP:

29964 EUP-11. Issuance. Pioneer Hi-Bred International, P.O. Box 1000, Johnston, IA 50131-1000. This EUP allows the use of combined and single trait corn containing one or more of the following plant-incorporated protectants (PIPs): (1) [Bt11] Bacillus thuringiensis Cry1Ab delta-endotoxin and the genetic material (via elements of vector pZO1502) necessary for its production in corn (SYN-BTØ11-1), (2) [DAS-59122-7] Bacillus thuringiensis Cry34Ab1 and Cry35Ab1 proteins and the genetic material necessary for their production (PHP17662 T-DNA) in event DAS59122-7 corn (Organization for Economic Co-operation and Development (OECD) Unique Identifier: DAS-59122-7), (3) [MIR162] Bacillus thuringiensis Vip3Aa20 and the genetic material necessary for its production (vector pNOV1300) in event MIR162 maize (SYN-IR162-4), (4) [MIR604] Modified Cry3A protein and the genetic material necessary for its production (via elements of pZM26) in corn (SYN-IR604-8), (5) [TC1507] Bacillus thuringiensis Cry1F protein and the genetic material (plasmid insert PHI8999A) necessary for its production in corn event DAS- Ø15Ø7-1, and (6) [MON810] Bacillus thuringiensis Cry1Ab delta-endotoxin and the genetic material necessary for its production (Vestor PV-ZMCT01) in event MON 810 corn (OECD Unique Identifier: MON- ØØ81Ø-6). The focus of the EUP are the three breeding stacks: (1) MIR604 × 1507 × 59122 × MON 810, (2) MIR604 × 59122 × MON810, and (3) MIR604 ×1507. 0.0184 pounds (lbs.) of MON810 Cry1Ab, 0.0585 (lbs.) of Bt11 Cry1Ab, 5.513 (lbs.) of Cry34Ab1, 0.754 (lbs.) of Cry35Ab1, 0.123 (lbs.) of Vip3Aa20, 0.147 (lbs.) of mCry3A, and 0.170 (lbs.) of Cry1F, are authorized on, 2,672 PIP acres. 664 acres of non-PIP and border row corn are also authorized. Two protocols will be conducted, including: Insect resistance management and efficacy/expression. The program is authorized only in the States of Arkansas, California, Colorado, Georgia, Hawaii, Illinois, Indiana, Iowa, Kansas, Louisiana, Michigan, Minnesota, Mississippi, Missouri, Nebraska, New York, North Carolina, Ohio, Oklahoma, Oregon, Pennsylvania, Puerto Rico, South Dakota, Tennessee, Texas, Washington, and Wisconsin. The EUP is effective from March 3, 2011, to June 30, 2012. One comment was received in response to the January 26, 2011, notice of receipt in the Federal Register, 76 FR 4683, FRL-8856-2. One comment was received from an anonymous individual who objected in general terms to EPA granting this experimental use permit with Bacillus thuringiensis-based plant-incorporated protectants claiming that insufficient safety testing has been required. The Agency understands that some individuals are opposed to all biotechnology based pesticide use. Pursuant to section 5 of the Federal Insecticide, Fungicide, and Rodenticide Act, EPA may issue a permit for experimental use of a pesticide if the Agency determines that such experimental use may be conducted in such a manner as to not result in unreasonable adverse effects on the environment. EPA has conducted a comprehensive analysis of data and information related to the requested experimental uses and, based on that analysis, EPA has determined that the experimental uses, if conducted in accordance with the terms of the permit, will not result in unreasonable adverse effects on the environment.

Authority: 7 U.S.C. 136c.

List of Subjects

Environmental protection, Experimental use permits.

Dated: April 24, 2012.
Daniel J. Rosenblatt,
Acting Director, Registration Division, Office of Pesticide Programs.

[FR Doc. 2012-10725 Filed 5-3-12; 8:45 am]

BILLING CODE 6560-50-P